DEPARTMENT OF STATE

[Public Notice # 4528]

Notice of Meeting; United States International Telecommunication Advisory Committee; Preparations for ITU-T Study Group 16

January 6, 2004.

The Department of State announces a meeting of the U.S. International Telecommunication Advisory Committee (ITAC). The purpose of the Committee is to advise the Department on policy, technical and operational issues with respect to international telecommunications standardization bodies such as the International Telecommunication Union (ITU).

The ITAC will meet on January 6, 2004 to prepare for an ITU Telecommunication Standardization Study Group 16 meeting to be held in Geneva from January 20-30, 2004. The meeting will be held at the offices of Communication Technologies, 14151 Newbrook Dr., Chantilly, Virginia. The time of the meeting will be announced on the e-mail reflector (list server) SGD@ALMSNTSA.LMLIST.State.gov. People may join this reflector by sending a message saying they wish to join the list to itac@state.gov.

Dated: November 21, 2003.
James Ennis,
Director, Advanced Network Technologies, Department of State.

[FR Doc. 03-30276 Filed 12-8-03; 8:45 am]

BILLING CODE 4710-45-P